FEDERAL COMMUNICATIONS COMMISSION

[Report No. 2446]

Petitions for Reconsideration and Clarification of Action in Rulemaking Proceeding

October 11, 2000.

Petitions for Reconsideration and Clarification have been filed in the Commission's rulemaking proceeding listed in this Public Notice and published pursuant to 47 CFR Section 1.429(e). The full text of this document is available for viewing and copying in Room CY-A257, 445 12th Street, SW., Washington, DC or may be purchased from the Commission's copy contractor, ITS, Inc. (202) 857-3800. Oppositions to these petitions must be filed by November 1, 2000. See Section 1.4(b)(1) of the Commission's rules (47 CFR 1.4(b)(1)). Replies to an opposition must be filed within 10 days after the time for filing oppositions have expired.

Subject: Deployment of Wireline Services Offering Advanced Telecommunications Capability (CC Docket No. 98-147); and Implementation of the Local Competition Provisions of the Telecommunications Act of 1996 (CC Docket No. 96-98).

Number of Petitions Filed: 4.

Federal Communications Commission.
Magalie Roman Salas,
Secretary.

[FR Doc. 00-26596 Filed 10-16-00; 8:45 am]

BILLING CODE 6712-01-M